DEPARTMENT OF ENERGY

Federal Energy Regulatory Commission

Combined Notice of Filings #1

Take notice that the Commission received the following electric rate filings:

Docket Numbers: ER12-162-008; ER11-3876-011; ER11-2044-011; ER10-2611-009.

Applicants: Bishop Hill Energy II LLC, Cordova Energy Company LLC, MidAmerican Energy Company, Saranac Power Partners, L.P.

Description: Notice of Change in Status of the Berkshire Hathaway Parties.

Filed Date: 10/14/14.

Accession Number: 20141014-5499.

Comments Due: 5 p.m. ET 11/4/14.

Docket Numbers: ER14-2445-001.

Applicants: Midcontinent Independent System Operator, Inc.

Description: Tariff Amendment per 35.17(b): 2014-10-14 Hurdle Rate Deficiency Answer to be effective 7/17/2014.

Filed Date: 10/14/14.

Accession Number: 20141014-5485.

Comments Due: 5 p.m. ET 11/4/14.

Docket Numbers: ER14-2848-001.

Applicants: Liberty Utilities (Granite State Electric) Corp.

Description: Tariff Amendment per 35.17(b): Borderline Sales Tariff Amendment to be effective 5/1/2012.

Filed Date: 10/15/14.

Accession Number: 20141015-5030.

Comments Due: 5 p.m. ET 11/5/14.

Docket Numbers: ER15-84-000.

Applicants: Quantum Auburndale Power, LP.

Description: Tariff Withdrawal per 35.15: Quantum Auburndale Power, LP Notice of Cancellation to be effective 12/15/2014.

Filed Date: 10/14/14.

Accession Number: 20141014-5469.

Comments Due: 5 p.m. ET 11/4/14.

Docket Numbers: ER15-85-000.

Applicants: Verso Bucksport Power LLC.

Description: Compliance filing per 35: Limitations and Exemptions Provision to be effective 10/15/2014.

Filed Date: 10/15/14.

Accession Number: 20141015-5000.

Comments Due: 5 p.m. ET 11/5/14.

Docket Numbers: ER15-86-000.

Applicants: Verso Maine Energy LLC.

Description: Compliance filing per 35: Third-Party Ancillary Services Provision to be effective 10/15/2014.

Filed Date: 10/15/14.

Accession Number: 20141015-5001.

Comments Due: 5 p.m. ET 11/5/14.

Docket Numbers: ER15-87-000.

Applicants: Verso Androscoggin Power LLC.

Description: Compliance filing per 35: Limitations and Exemptions Provision to be effective 10/15/2014.

Filed Date: 10/15/14.

Accession Number: 20141015-5002.

Comments Due: 5 p.m. ET 11/5/14.

Docket Numbers: ER15-88-000.

Applicants: Verso Androscoggin LLC.

Description: Compliance filing per 35: Third-Party Ancillary Services Provision to be effective 10/15/2014.

Filed Date: 10/15/14.

Accession Number: 20141015-5003.

Comments Due: 5 p.m. ET 11/5/14.

Docket Numbers: ER15-89-000.

Applicants: Southern California Edison Company.

Description: § 205(d) rate filing per 35.13(a)(2)(iii): SGIA and Distribution Service Agmt with Antelope Valley Solar, LLC to be effective 12/15/2014.

Filed Date: 10/15/14.

Accession Number: 20141015-5005.

Comments Due: 5 p.m. ET 11/5/14.

Docket Numbers: ER15-90-000.

Applicants: DTE Electric Company.

Description: Request for Limited Waiver of the MISO Open Access Transmission, Energy and Operating Reserve Markets Tariff of DTE Electric Company.

Filed Date: 10/14/14.

Accession Number: 20141014-5496.

Comments Due: 5 p.m. ET 11/4/14.

Take notice that the Commission received the following public utility holding company filings:

Docket Numbers: PH14-16-000.

Applicants: Fortis Inc.

Description: Fortis Inc. submits FERC 65-B Notification of Material Change in Facts.

Filed Date: 9/15/14.

Accession Number: 20140915-5213.

Comments Due: 5 p.m. ET 10/27/14.

Take notice that the Commission received the following qualifying facility filings:

Docket Numbers: QF13-571-000.

Applicants: Rochelle Energy Center, LLC.

Description: Refund Report of Rochelle Energy Center, LLC.

Filed Date: 10/14/14.

Accession Number: 20141014-5489.

Comments Due: 5 p.m. ET 11/4/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2014.
Nathaniel J. Davis, Sr.,
Deputy Secretary.

[FR Doc. 2014-25116 Filed 10-21-14; 8:45 am]

BILLING CODE 6717-01-P